NATIONAL AERONAUTICS AND SPACE ADMINISTRATION

[Notice (09-038)]

National Space-Based Positioning, Navigation and Timing (PNT) Advisory Board; Meeting

AGENCY: National Aeronautics and Space Administration.

ACTION: Notice of meeting.

SUMMARY: In accordance with the Federal Advisory Committee Act, Public Law 92-463, as amended, the National Aeronautics and Space Administration announces a meeting of the National Space-Based Positioning, Navigation and Timing (PNT) Advisory Board. The agenda for the meeting includes updates from each of the three PNT Panels (Leadership, Strategic Engagement and Communication, Future Challenges), including discussion and deliberation of potential recommendations. The PNT Advisory Board will address U.S. Government interests in the following areas:

• Implementation of the President's 2004 U.S. Space-Based Positioning, Navigation and Timing Policy.

• National Space-Based PNT Executive Committee, and National Space-Based PNT Coordination Office.

• Global Positioning System (GPS) Constellation and Modernization Plans.

• U.S. GPS Technological Leadership and Competitiveness.

• Promoting and Branding Current and Future PNT Capabilities to the U.S. and International Communities.

• Global Technical and Market Trends for PNT Services.

• Future Areas of Study.

DATES: Thursday, May 14, 2009, 9 a.m.-5 p.m.; Friday, May 15, 2009, 9 a.m.-1 p.m.

ADDRESSES: Embassy Suites Hotel at Chevy Chase Pavilion, 4300 Military Road, NW., Washington, DC 20015-2020, phone: 202-362-9300.

FOR FURTHER INFORMATION CONTACT: Mr. James J. Miller, Space Operations Mission Directorate, National Aeronautics and Space Administration, Washington, DC, 20546. Phone 202-358-4417.

SUPPLEMENTARY INFORMATION: The meeting will be open to the public up to the seating capacity of the room. It is imperative that the meeting be held on this date to accommodate the scheduling priorities of the key participants.

Dated: April 24, 2009.
P. Diane Rausch,
Advisory Committee Management Officer, National Aeronautics and Space Administration.

[FR Doc. E9-9880 Filed 4-29-09; 8:45 am]

BILLING CODE 7510-13-P